DEPARTMENT OF STATE

[Public Notice 8616]

Meeting of the International Maritime Organization Sub-Committee on Pollution Prevention and Response; Notice of Request for Comments

The planned open meeting of the Shipping Coordinating Committee (SHC), a Department of State advisory committee, on Tuesday, January 21, 2014, was cancelled due to the weather-related closure of Washington, DC, Federal offices. The Department of State is now soliciting comment from any interested individuals to prepare for the first Session of the International Maritime Organization's (IMO) Sub-Committee on Pollution Prevention and Response (PPR) to be held at the IMO Headquarters, United Kingdom, February 3-7, 2014.

The agenda items to be considered include:

—Adoption of the agenda

—Decisions of other IMO bodies

—Evaluation of safety and pollution hazards of liquid chemicals and preparation of consequential amendments to the IBC Code

—Development of a code for the transport and handling of limited amounts of hazardous and noxious liquid substances in bulk on offshore support vessels

—Additional guidelines for implementation of the BWM Convention

—Production of a manual entitled “Ballast Water Management—How to do it”

—Improved and new technologies approved for ballast water management systems and reduction of atmospheric pollution

—Consideration of the impact on the Arctic of emissions of Black Carbon from international shipping

—Review of relevant non-mandatory instruments as a consequence of the amended MARPOL Annex VI and the NOx Technical Code

—Implementation of the OPRC Convention and the OPRC-HNS Protocol and relevant Conference resolutions

—Consideration of IACS unified interpretations

—Casualty analysis

—Biennial agenda and provisional agenda for PPR 2

—Election of Chairman and Vice-Chairman for 2015

—Any other business

—Report to the Marine Environment Protection Committee

DATES: Comments and related material must either be submitted on or before February 7, 2014.

ADDRESSES: You may submit comments using the following methods (please use only one of the following methods):

(1) Submit comments to Docket No. DOS-2014-002 at www.regulations.gov.

(2) Email comments to Mr. Timothy Brown at the following address: timothy.m.brown@uscg.mil.

(3) Fax to: 202-493-2251.

(4) Mail delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, please contact Mr. Timothy Brown, by email: timothy.m.brown@uscg.mil, by phone at 202-372-2358 or by fax at (202) 372-8383. Additional information regarding this and other IMO SHC public meetings may be found at: www.uscg.mil/imo.

Dated: January 27, 2014.
Marc Zlomek,
Oceans Policy Advisor, Bureau of Oceans and International, Environmental and Scientific Affairs, Department of State.

[FR Doc. 2014-02075 Filed 1-30-14; 8:45 am]

BILLING CODE 4710-09-P